DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before August 7, 2020.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC.

This notice of receipt of applications for special permit is published in accordance with part 107 of the Federal hazardous materials transportation law (49 U.S.C. 5117(b); 49 CFR 1.53(b)).

Issued in Washington, DC, on July 1, 2020.
Donald P. Burger,
Chief, General Approvals and Permits Branch.

Special Permits Data
Application No. | Applicant | Regulation(s) affected | Nature of the special permits thereof
21061-N | KLA Corporation | 173.212, 173.213 | To authorize the transportation in commerce of certain flammable solids in non-DOT specification packaging. (modes 1, 4).
21062-N | Gas Innovations Inc | 171.23 | To authorize the transportation in commerce of pressure drums containing Hydrogen chloride, anhydrous, UN 1050 that do not meet the requalification requirement in § 171.23 for export. (modes 1, 2, 3).
21063-N | Cobham Mission Systems Orchard Park Inc | 173.302a(a)(1) | To authorize the transportation in commerce of certain gases in non-refillable, non-DOT specification cylinders. (modes 1, 2, 3, 4).
21065-N | Advance Stores Company Incorporated | 172.704, 173.159 | To authorize the transportation in commerce of lead acid batteries and limited quantities of hazardous materials by third-party delivery services without requiring carrier training. (mode 1).
21067-N | Stainless Tank & Equipment Co., LLC | 178.345-2 | To authorize the manufacture, mark, sale, and use of DOT 400 series cargo tanks fabricated using materials not authorized in 178.345-2. (mode 1).
21068-N | FirePro Systems Limited | 173.166 | To authorize the transportation in commerce of fire extinguishing products which are classed as Safety Devices. (modes 1, 2, 3, 4).
21069-N | Catalina Cylinders, Inc | 173.302a, 178.71(l)(1) | To authorize the manufacture, mark, sale, and use of non-DOT specification cylinders. (modes 1, 2, 3, 4).

[FR Doc. 2020-14618 Filed 7-7-20; 8:45 am]

BILLING CODE P